DEPARTMENT OF ENERGY

Federal Energy Regulatory Commission

Combined Notice of Filings #1

Take notice that the Commission received the following electric rate filings:

Docket Numbers: ER10-2535-009.

Applicants: Mendota Hills, LLC.

Description: Notice of Non-Material Change in Status of Mendota Hills, LLC.

Filed Date: 4/26/19.

Accession Number: 20190426-5256.

Comments Due: 5 p.m. ET 5/17/19.

Docket Numbers: ER18-1775-002.

Applicants: 64KT 8me LLC.

Description: Notice of Non-Material Change In Status of 64KT 8me LLC.

Filed Date: 4/26/19.

Accession Number: 20190426-5239.

Comments Due: 5 p.m. ET 5/17/19.

Docket Numbers: ER19-718-001.

Applicants: Duke Energy Carolinas, LLC.

Description: Compliance filing: DEC Compliance Filing Revised Tariff Records per April 2, 2019 Order to be effective 1/1/2018.

Filed Date: 4/29/19.

Accession Number: 20190429-5133.

Comments Due: 5 p.m. ET 5/20/19.

Docket Numbers: ER19-1012-001.

Applicants: PJM Interconnection, L.L.C.

Description: Tariff Amendment: Response to Deficiency Letter Issued 3/29/19 re: Price Responsive Demand Update to be effective 4/9/2019.

Filed Date: 4/29/19.

Accession Number: 20190429-5134.

Comments Due: 5 p.m. ET 5/20/19.

Docket Numbers: ER19-1691-000.

Applicants: Midcontinent Independent System Operator, Inc., Ameren Illinois Company.

Description: § 205(d) Rate Filing: 2019-04-29_SA 1958 Ameren-Mt. Carmel WDS Agreement to be effective 7/1/2019.

Filed Date: 4/29/19.

Accession Number: 20190429-5006.

Comments Due: 5 p.m. ET 5/20/19.

Docket Numbers: ER19-1692-000.

Applicants: Duke Energy Progress, LLC.

Description: Tariff Cancellation: DEP-Notice of Termination (RS Nos. 174, 175, 176, 177, & 178) to be effective 6/30/2019.

Filed Date: 4/29/19.

Accession Number: 20190429-5012.

Comments Due: 5 p.m. ET 5/20/19.

Docket Numbers: ER19-1693-000.

Applicants: PJM Interconnection, L.L.C.

Description: § 205(d) Rate Filing: Original WMPA, SA No. 5374; Queue No. AE1-027 to be effective 3/29/2019.

Filed Date: 4/29/19.

Accession Number: 20190429-5052.

Comments Due: 5 p.m. ET 5/20/19.

Docket Numbers: ER19-1694-000.

Applicants: PJM Interconnection, L.L.C.

Description: § 205(d) Rate Filing: Revisions to the OATT and OA re: Definition of On-Site Generator to be effective 7/1/2019.

Filed Date: 4/29/19.

Accession Number: 20190429-5053.

Comments Due: 5 p.m. ET 5/20/19.

Docket Numbers: ER19-1696-000.

Applicants: Southwest Power Pool, Inc.

Description: § 205(d) Rate Filing: Attachment O Section III.5 Revisions to be effective 6/28/2019.

Filed Date: 4/29/19.

Accession Number: 20190429-5087.

Comments Due: 5 p.m. ET 5/20/19.

Docket Numbers: ER19-1697-000.

Applicants: PJM Interconnection, L.L.C.

Description: Tariff Cancellation: Notice of Cancellation of WMPA/ISA No. 5041; Queue No. AC2-089 to be effective 5/21/2019.

Filed Date: 4/29/19.

Accession Number: 20190429-5090.

Comments Due: 5 p.m. ET 5/20/19.

Docket Numbers: ER19-1698-000.

Applicants: PJM Interconnection, L.L.C.

Description: § 205(d) Rate Filing: Original WMPA, SA No. 5375; Queue No. AE1-028 to be effective 3/29/2019.

Filed Date: 4/29/19.

Accession Number: 20190429-5123.

Comments Due: 5 p.m. ET 5/20/19.

Docket Numbers: ER19-1699-000.

Applicants: PJM Interconnection, L.L.C.

Description: § 205(d) Rate Filing: 1st Quarter 2019 Revisions to OA, Schedule 12 and RAA, Schedule 17 to be effective 3/31/2019.

Filed Date: 4/29/19.

Accession Number: 20190429-5153.

Comments Due: 5 p.m. ET 5/20/19.

Docket Numbers: ER19-1700-000.

Applicants: Midcontinent Independent System Operator, Inc., Ameren Illinois Company.

Description: § 205(d) Rate Filing: 2019-04-29_SA 2003 Ameren-Newton WDS Agreement to be effective 7/1/2019.

Filed Date: 4/29/19.

Accession Number: 20190429-5154.

Comments Due: 5 p.m. ET 5/20/19.

Docket Numbers: ER19-1701-000.

Applicants: Midcontinent Independent System Operator, Inc., Ameren Illinois Company.

Description: § 205(d) Rate Filing: 2019-04-29_SA 2001 Ameren-PPI WDS Agreement to be effective 7/1/2019.

Filed Date: 4/29/19.

Accession Number: 20190429-5155.

Comments Due: 5 p.m. ET 5/20/19.

Docket Numbers: ER19-1702-000.

Applicants: PJM Interconnection, L.L.C.

Description: § 205(d) Rate Filing: Original WMPA, SA No. 5376; Queue No. AE1-098 to be effective 3/29/2019.

Filed Date: 4/29/19.

Accession Number: 20190429-5158.

Comments Due: 5 p.m. ET 5/20/19.

Docket Numbers: ER19-1703-000.

Applicants: Midcontinent Independent System Operator, Inc., Ameren Illinois Company.

Description: § 205(d) Rate Filing: 2019-04-29_SA 2006 Ameren-SWEC WDS Agreement to be effective 7/1/2019.

Filed Date: 4/29/19.

Accession Number: 20190429-5162.

Comments Due: 5 p.m. ET 5/20/19.

Docket Numbers: ER19-1704-000.

Applicants: Midcontinent Independent System Operator, Inc., Ameren Illinois Company.

Description: § 205(d) Rate Filing: 2019-04-29_SA 2010 Ameren-SIPC WDS Agreement to be effective 7/1/2019.

Filed Date: 4/29/19.

Accession Number: 20190429-5169.

Comments Due: 5 p.m. ET 5/20/19.

Docket Numbers: ER19-1705-000.

Applicants: Midcontinent Independent System Operator, Inc., Ameren Illinois Company.

Description: § 205(d) Rate Filing: 2019-04-29_SA 1970 Ameren-Wabash Valley WDS Agreement to be effective 7/1/2019.

Filed Date: 4/29/19.

Accession Number: 20190429-5173.

Comments Due: 5 p.m. ET 5/20/19.

Docket Numbers: ER19-1706-000.

Applicants: Midcontinent Independent System Operator, Inc., Ameren Illinois Company.

Description: § 205(d) Rate Filing: 2019-04-29_SA 1975 Ameren-Norris WDS Agreement to be effective 7/1/2019.

Filed Date: 4/29/19.

Accession Number: 20190429-5186.

Comments Due: 5 p.m. ET 5/20/19.

Docket Numbers: ER19-1707-000.

Applicants: Midcontinent Independent System Operator, Inc., Ameren Illinois Company.

Description: § 205(d) Rate Filing: 2019-04-29_SA 3066 Ameren-RECC WDS Agreement to be effective 7/1/2019.

Filed Date: 4/29/19.

Accession Number: 20190429-5187.

Comments Due: 5 p.m. ET 5/20/19.

Docket Numbers: ER19-1708-000.

Applicants: PJM Interconnection, L.L.C.

Description: § 205(d) Rate Filing: Original WMPA, SA No. 5377; Queue No. AE1-099 to be effective 3/29/2019.

Filed Date: 4/29/19.

Accession Number: 20190429-5200.

Comments Due: 5 p.m. ET 5/20/19.

Docket Numbers: ER19-1709-000.

Applicants: PJM Interconnection, L.L.C.

Description: § 205(d) Rate Filing: Amendment to ISA, SA No. 4511; Queue No. AB1-127 to be effective7/13/2016.

Filed Date: 4/29/19.

Accession Number: 20190429-5201.

Comments Due: 5 p.m. ET 5/20/19.

Docket Numbers: ER19-1710-000.

Applicants: AEP Ohio Transmission Company, Inc., Ohio Power Company, PJM Interconnection, L.L.C.

Description: § 205(d) Rate Filing: AEP Ohio submits an ILDSA, Service Agreement No. 1675 and City of Jackson FA to be effective 4/29/2019.

Filed Date: 4/29/19.

Accession Number: 20190429-5239.

Comments Due: 5 p.m. ET 5/20/19.

Docket Numbers: ER19-1711-000.

Applicants: PJM Interconnection, L.L.C.

Description: § 205(d) Rate Filing: Amendment to ISAs, SA Nos. 2836 & 2837 re: FES to Vermillion Power (consent) to be effective 6/1/2011.

Filed Date: 4/29/19.

Accession Number: 20190429-5247.

Comments Due: 5 p.m. ET 5/20/19.

Docket Numbers: ER19-1712-000.

Applicants: PJM Interconnection, L.L.C.

Description: § 205(d) Rate Filing: Original ISA, SA No. 5360; Queue No. Z1-116 to be effective 3/28/2019.

Filed Date: 4/29/19.

Accession Number: 20190429-5259.

Comments Due: 5 p.m. ET 5/20/19.

Docket Numbers: ER19-1713-000.

Applicants: Capitol District Energy Center Cogeneration Associates.

Description: § 205(d) Rate Filing: Notification of Change in Status and Category Change to be effective 4/30/2019.

Filed Date: 4/29/19.

Accession Number: 20190429-5262.

Comments Due: 5 p.m. ET 5/20/19.

Docket Numbers: ER19-1714-000.

Applicants: Pawtucket Power Associates Limited Partnership.

Description: § 205(d) Rate Filing: Notification of Change in Status and Category Change to be effective 4/30/2019.

Filed Date: 4/29/19.

Accession Number: 20190429-5268.

Comments Due: 5 p.m. ET 5/20/19.

Docket Numbers: ER19-1715-000.

Applicants: Pittsfield Generating Company, L.P.

Description: § 205(d) Rate Filing: Notification of Change in Status and Category Change to be effective 4/30/2019.

Filed Date: 4/29/19.

Accession Number: 20190429-5277.

Comments Due: 5 p.m. ET 5/20/19.

Docket Numbers: ER19-1716-000.

Applicants: Morgan Stanley Energy Structuring, L.L.C

Description: § 205(d) Rate Filing: Name change filing Normal 2019 to be effective 4/30/2019.

Filed Date: 4/29/19.

Accession Number: 20190429-5282.

Comments Due: 5 p.m. ET 5/20/19.

Docket Numbers: ER19-1717-000.

Applicants: Forked River Power LLC.

Description: § 205(d) Rate Filing: Notification of Change in Status and Category Change to be effective 4/30/2019.

Filed Date: 4/29/19.

Accession Number: 20190429-5285.

Comments Due: 5 p.m. ET 5/20/19.

Take notice that the Commission received the following electric securities filings:

Docket Numbers: ES19-26-000.

Applicants: MidAmerican Energy Company.

Description: Application under Section 204 of the Federal Power Act for Authorization to Issue Securities of MidAmerican Energy Company.

Filed Date: 4/26/19.

Accession Number: 20190426-5245.

Comments Due: 5 p.m. ET 5/17/19.

Take notice that the Commission received the following qualifying facility filings:

Docket Numbers: QF19-1121-000.

Applicants: Freeport LNG Development, L.P.

Description: Form 556 of Freeport LNG Development, L.P.

Filed Date: 4/25/19.

Accession Number: 20190425-5249.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2019.
Nathaniel J. Davis, Sr.,
Deputy Secretary.

[FR Doc. 2019-09261 Filed 5-6-19; 8:45 am]

BILLING CODE 6717-01-P